DEPARTMENT OF JUSTICE

Notice of Lodging of Settlement Agreement Pursuant to the Comprehensive Environmental Response, Compensation, and Liability Act (“CERCLA”)

Notice is hereby given that on February 8, 2008, a proposed Settlement Agreement in In re Troy Mills, Incorporated No. 1:01-bk-13341, was lodged with the United States Bankruptcy Court for the Northern District of West Virginia.

On March 19, 2004, the United States, on behalf of the Environmental Protection Agency (“EPA”), filed a Proof of Claim under Section 107(a) of the Comprehensive Environmental Response, Compensation, and Liability Act, as amended (“CERCLA”), 42 U.S.C. 9607(a), against the Debtor seeking recovery of $1,100,838 in past costs, plus all future costs incurred by EPA in responding to the release or threat of release of hazardous substances at the Troy Mills Superfund Site (“Site”) in Troy, New Hampshire. The Settlement Agreement provides that the United States will have an allowed administrative claim against the Debtor in the amount of $14,000,000 and be allowed to place a lien for this amount on Debtor's property at the Site. Additionally, Troy Mills will provide an easement to the State of New Hampshire protecting groundwater and the remedy at the Site.

The Department of Justice will receive for a period of thirty (30) days from the date of this publication comments relating to the Settlement Agreement. Comments should be addressed to the Assistant Attorney General, Environment and Natural Resources Division, and either e-mailed to pubcomment-ees.enrd@usdoj.gov or mailed to P.O. Box 7611, U.S. Department of Justice, Washington, DC 20044-7611. In either case, the comments should refer to In re Troy Mills, Incorporated No. 1:01-bk-13341, D.J. Ref. 90-11-3-08049.

The Settlement Agreement may be examined at the Office of the United States Attorney, Northern District of West Virginia, P.O. Box 591, Wheeling, WV 26003-0011 and at U.S. EPA Region I, One Congress Street, Suite 1100 SES, Boston, MA 02114-2023 (contact Senior Enforcement Counsel David Peterson). During the public comment period, the Settlement Agreement may also be examined on the following Department of Justice Web site, http://www.usdoj.gov/enrd/Consent_Decrees.html. A copy of the Settlement Agreement may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $2.75 (25 cents per page reproduction cost) payable to the U.S. Treasury.

Ronald G. Gluck,
Assistant Chief, Environmental, Enforcement Section, Environment and Natural Resources Division.

[FR Doc. E8-2954 Filed 2-20-08; 8:45 am]

BILLING CODE 4410-15-P